DEPARTMENT OF THE INTERIOR

Office of Surface Mining Reclamation and Enforcement

[S1D1S SS08011000 SX064A000 201S180110; S2D2S SS08011000 SX064A000 20XS501520; OMB Control Number 1029-0049]

Agency Information Collection Activities; Submission to the Office of Management and Budget for Review and Approval; Special Permanent Program Performance Standards—Operations in Alluvial Valley Floors

AGENCY: Office of Surface Mining Reclamation and Enforcement, Interior.

ACTION: Notice of information collection; request for comment.

SUMMARY: In accordance with the Paperwork Reduction Act of 1995, we, the Office of Surface Mining Reclamation and Enforcement (OSMRE) are proposing to renew an information collection.

DATES: Interested persons are invited to submit comments on or before January 6, 2020.

ADDRESSES: Send written comments on this information collection request (ICR) to the Office of Management and Budget's Desk Officer for the Department of the Interior by email at OIRA_Submission@omb.eop.gov; or via facsimile to (202) 395-5806. Please provide a copy of your comments to Mark Gehlhar, Office of Surface Mining Reclamation and Enforcement, 1849 C. Street NW, Room 4556-MIB, Washington, DC 20240; or by email to mgehlhar@osmre.gov. Please reference OMB Control Number 1029-0049 in the subject line of your comments.

FOR FURTHER INFORMATION CONTACT: To request additional information about this ICR, contact Mark Gehlhar by email at mgehlhar@osmre.gov, or by telephone at (202) 208-2716. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 2, 2018 (83 FR 49572). No comments were received.

We are again soliciting comments on the proposed ICR that is described below. We are especially interested in public comment addressing the following issues: (1) Is the collection necessary to the proper functions of the OSMRE; (2) will this information be processed and used in a timely manner; (3) is the estimate of burden accurate; (4) how might the OSMRE enhance the quality, utility, and clarity of the information to be collected; and (5) how might the OSMRE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Sections 510(b)(5) and 515(b)(10)(F) of the Surface Mining Control and Reclamation Act of 1977 (SMCRA) protect alluvial valley floors from the adverse effects of surface coal mining operations west of the 100th meridian. Part 822 requires the permittee to install, maintain, and operate a hydrologic monitoring system in order to provide specific protection for alluvial valley floors. This information is necessary to determine whether the hydrologic conditions of alluvial valley floors are protected according to the Act.

Title of Collection: Special Permanent Program Performance Standards—Operations in Alluvial Valley Floors.

OMB Control Number: 1029-0049.

Form Number: None.

Type of Review: Extension of a currently approved collection.

Respondents/Affected Public: Coal mining operators and State regulatory authorities.

Total Estimated Number of Annual Respondents: 1 operator and 2 regulatory authorities.

Total Estimated Number of Annual Responses: 60.

Estimated Completion Time per Response: 160 hours for operator and an average of 15 hours for regulatory authorities.

Total Estimated Number of Annual Burden Hours: 5,250 hours.

Respondent's Obligation: Required to obtain or retain a benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq).

Dated: November 26, 2019.
Signed:
Paul J. Ehret,
Acting Chief Division of Regulatory Support.

[FR Doc. 2019-26332 Filed 12-5-19; 8:45 am]

BILLING CODE 4310-05-P